DEPARTMENT OF HOUSING AND URBAN DEVELOPMENT

[Docket No. FR-5130-N-23]

Privacy Act; System of Records, Single Family Housing Enterprise Data Warehouse (SFHEDW/D64A-HUD/HS-15)

AGENCY: Office of the Chief Information Officer, HUD.

ACTION: Notice of revision of agency's Privacy Act System of Records.

SUMMARY: HUD is proposing to revise information published in the Federal Register about one of its record systems entitled the Single Family Housing Enterprise Data Warehouse. HUD's revisions reflect current administrative changes and revised statements for the purpose, system location, and record source categories. The scope and functional purpose of the systems remains unchanged

DATES: Effective Date: This action shall be effective without further notice on June 4, 2008 unless comments are received during or before this period that would result in a contrary determination.

Comments Due Date: June 4, 2008.

ADDRESSES: Interested persons are invited to submit comments regarding this notice to the Rules Docket Clerk, Office of General Counsel, Department of Housing and Urban Development, 451 Seventh Street, SW., Room 10276, Washington, DC 20410-0500. Communications should refer to the above docket number and title. A copy of each communication submitted will be available for public inspection and copying between 8 a.m. and 5 p.m. weekdays at the above address.

FOR FURTHER INFORMATION CONTACT: The Departmental Privacy Act Officer, Office of the Chief Information Officer, Department of Housing and Urban Development, 451 Seventh Street, SW., Room 2256, Washington, DC 20410, telephone number (202) 402-8073 or the System Owner, Director, Office of Single Family Program Development, HUP, Department of Housing and Urban Development, 451 Seventh Street, SW., Washington, DC 20410, telephone number (202) 708-2121. (These are not toll-free numbers.) Telecommunication device for hearing—and speech—impaired individuals (TTY) is available at (800) 877-8339 (Federal Information Relay Service).

SUPPLEMENTARY INFORMATION: Title 5 U.S.C. 552a(e)(4) and (11) provide that the public be afforded a 30-day period in which to comment on the new system of records, and require published notice of the existence and character of the system of records.

The report was submitted to the Office of Management and Budget (OMB), the Senate Committee on Homeland Security and Governmental Affairs, and the House Committee on Oversight and Government Reform pursuant to paragraph 4c of Appendix 1 to OMB Circular No. A-130, “Federal Responsibilities for Maintaining Records About Individuals,” July 25, 1994 (59 FR 37914).

Authority: 5 U.S.C. 552a, 88 Stat. 1896; 42 U.S.C. 3535(d).

April 21, 2008.
Joseph M. Milazzo,
Acting, Chief Information Officer.

Altered System

HUD/HS-15

System name:

Single Family Housing Enterprise Data Warehouse (SFHEDW/D64A).

System location:

The HUD Data Center, which houses D64A, is located at the EDS Facility in South Charleston, West Virginia. HUD staff throughout the United States access SFHEDW/D64A through HUD's standard telecommunications network from desktop workstations.

Categories of individuals covered by the system:

Individuals who have obtained a mortgage insured under HUD/FHA's single family mortgage insurance programs, individuals who assumed such a mortgage, and individuals involved in appraising or underwriting the mortgage.

Categories of records in the system:

Automated files contain name, address, date of birth, home address, and social security number; racial/ethnic background, if disclosed, on mortgagors; identifying numbers on individuals involved in processing the loan; and data regarding currently and formerly insured mortgages. The loan data includes underwriting data, such as loan-to-value ratios and credit ratios; original terms, such as mortgage amount, interest rate, term in months; status of the mortgage insurance; and history of payment defaults, if any.

Authority for maintenance of the system:

Sec. 203, National Housing Act, Pub. L. 73-479.

Purpose(s):

The SFHEDW/D64A is an ongoing, fully operational data warehouse that is the key source of data for anyone who needs Single Family data. D64A is an integrated data warehouse that contains critical Single Family business data from fourteen (14) sources, mostly from FHA Single Family automated systems. The system allows queries and provides reporting tools to support oversight activities, market and economic assessment, public and stakeholder communication, planning and performance evaluation, policies and guidelines promulgation, monitoring and enforcement.

Routine uses of records maintained in the system, including categories of users and the purposes of such uses:

In addition to those disclosures generally permitted under 5 U.S.C. 552a(b) of the Privacy Act other routine uses include:

(a) To the FBI to investigate possible fraud revealed in underwriting, insuring or monitoring.

(b) To Department of Justice for prosecution of fraud revealed in underwriting, insuring or monitoring.

(c) To General Accounting Office (GAO) for audit purposes.

Policies and practices for storing, retrieving, accessing, retaining, and disposing of records in the system:

Storage:

Records are stored on magnetic tape/disc/drum.

Retrievability:

Records are retrieved by name, social security number or other identification number, case number, property address, or any other type of stored data.

Safeguards:

Automated records are maintained in secured areas. Access is limited to authorized personnel.

Retention and disposal:

Computerized records of insured cases are retained for at least 10 years beyond maturity, prepayment, or claim termination.

System manager(s) and address:

Margaret Burns, Director, Office of Single Family Program Development, HUP, Department of Housing and Urban Development, 451 Seventh Street, SW., Washington, DC 20410.

Notification procedure:

For information, assistance, or inquiry about existence of records, contact the Privacy Act Officer at the appropriate location in accordance with 24 CFR part 16.

Record access procedures:

The Department's rules for providing access to records to the individual concerned appear in 24 CFR part 16. If additional information or assistance is required, contact the Privacy Act Officer.

Contesting record procedures:

The procedures for contesting the contents of records and appealing initial denials appear in 24 CFR Part 16—Implementation of the Privacy Act of 1974. If additional information or assistance is required, contact:

(i) The Departmental Privacy Act Officer, Department of Housing and Urban Development; 451 Seventh Street, SW., Room 2256, Washington, DC 20410, if contesting the content of records; or

(ii) The Departmental Privacy Appeals Office, Office of General Counsel, Department of Housing and Urban Development, 451 Seventh Street, SW., Washington, DC 20410 for appeals of initial denials.

Record source categories:

Mortgagors, appraisers, mortgagee staff underwriters, and HUD employees—indirectly, immediate sources are the following:

1. A43—Single Family Insurance System (SFIS).

2. A43C—Single Family Insurance Claims System (CLAIMS).

3. A80R—Single Family Premium Collections System—Upfront (SFPCS-U).

4. A80S—Single Family Acquired Assets Management System (SAMS).

5. F17—Computerized Home Underwriting Mortgage System (CHUMS).

6. F42D—Single Family Default Monitoring System (SFDMS).

7. F42—Consolidated Single Family Statistical System (CSFSS).

8. F51—Institution Master File (IMF).

9. A80N—SF Mortgage Notes Servicing (SFMNS/IFS).

10. F72—Title I Insurance and Claims System (TIIS).

11. F12—Home Equity Conversion Mortgages (HECM).

12. HMDA data from Federal Reserve Board (FRB).

13. F71A—Generic Debt Management System (GDEBT).

14. A15—Geocoding Service Center (GSC).

Exemptions from certain provision of the Act:

None.

[FR Doc. E8-9862 Filed 5-2-08; 8:45 am]

BILLING CODE 4210-67-P